DEPARTMENT OF STATE

[Public Notice 8000]

U.S. Department of State Advisory Committee on Private International Law: Notice of Annual Meeting

The Department of State's Advisory Committee on Private International Law (ACPIL) will hold its annual meeting on developments in private international law on Thursday, October 11 and Friday, October 12, 2012 in Washington, DC. The meeting will be held at the Michael K. Young Faculty Conference Center, George Washington University Law School, 2000 H Street NW., Washington, DC 20052. The program is scheduled to run from 9:30 a.m. to 5 p.m. on Thursday and from 9 a.m. to 2 p.m. on Friday.

Time permitting, we expect that the discussion will focus on developments in a number of areas, e.g., international family law; federalism issues in implementing the Hague Convention on Choice of Court Agreements; international contract law; developments in major PIL organizations; agricultural finance and food security; and simplified incorporation and other initiatives to promote the growth of microenterprises and small and medium-sized enterprises. We also expect to discuss possible future work in the PIL field and solicit suggestions in that regard.

Documents on these subjects are available at www.hcch.net; www.uncitral.org; www.unidroit.org; www.oas.org, and www.nccusl.org. We may, by email, supplement those with additional documents.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to smeltzertk@state.gov. Those planning to attend should provide name, affiliation and contact information to Tricia Smeltzer at 202-776-8423 and Niesha Toms at 202-776-8420, or by email to tomsnn@state.gov and smeltzertk@state.gov. A member of the public needing reasonable accommodation should advise those same contacts not later than September 28th. Requests made after that date will be considered, but might not be able to be fulfilled.

Dated: August 22, 2012.
Keith Loken,
Assistant Legal Adviser, Office of Private International Law, Office of the Legal Adviser, Department of State.

[FR Doc. 2012-21423 Filed 8-29-12; 8:45 am]

BILLING CODE 4710-08-P